DEPARTMENT OF ENERGY

International Energy Agency Meetings

AGENCY: Department of Energy.

ACTION: Notice of Meetings.

SUMMARY: The Industry Advisory Board (IAB) to the International Energy Agency (IEA) will meet on March 18, 2008, at the headquarters of the IEA in Paris, France, in connection with a joint meeting of the IEA's Standing Group on Emergency Questions (SEQ) and the IEA's Standing Group on the Oil Market on March 18, and a meeting of SEQ on March 18-19.

DATES: Meeting Dates: March 18-19, 2008.

ADDRESSES: 9, rue de la Fédération, Paris, France.

FOR FURTHER INFORMATION CONTACT: Diana D. Clark, Assistant General for International and National Security Programs, Department of Energy, 1000 Independence Avenue, SW., Washington, DC 20585, 202-586-3417.

SUPPLEMENTARY INFORMATION: In accordance with section 252(c)(1)(A)(i) of the Energy Policy and Conservation Act (42 U.S.C. 6272(c)(1)(A)(i)) (EPCA), the following notice of meeting is provided:

Meetings of the Industry Advisory Board (IAB) to the International Energy Agency (IEA) will be held at the headquarters of the IEA, 9, rue de la Fédération, Paris, France, on March 18, 2008, beginning at 9 a.m. and continuing at 3:45 p.m. and on March 19 at 9 a.m. The purpose of this notice is to permit attendance by representatives of U.S. company members of the IAB at a joint meeting of the IEA's Standing Group on Emergency Questions (SEQ) and the IEA's Standing Group on the Oil Market (SOM) on March 18, and a meeting of the SEQ on March 18-19. The IAB will also hold a preparatory meeting among company representatives at the same location from 8:15 a.m. to 9 a.m. on March 19. The agenda for this preparatory meeting is a review of the agenda of the SEQ meeting.

The agenda of the joint SEQ/SOM meeting on March 18 is under the control of the SEQ and the SOM. It is expected that the SEQ and the SOM will adopt the following agenda:

1. Adoption of the Agenda.

2. Minutes of Previous Meeting.

3. Oil Market Update.

4. World Energy Outlook 2008: Topics about the Oil Market.

5. Report on the IEA/Mexico Oil and Gas Seminar.

6. Natural Market Update.

7. Developments in Member Countries.

8. Report on Workshop on Speculation.

9. The Need for Weekly Stock Data.

10. Middle East Supply.

11. Information about Upcoming 11th IEF Meeting.

12. Nigeria.

13. Any Other Business.

The agenda of the SEQ meeting on March 18 and 19, 2008, is under the control of the SEQ. It is expected that the SEQ will adopt the following agenda:

1. Adoption of the Agenda.

2. Approval of the Summary Record of the 121st Meeting.

3. Status of Compliance with IEP Stockholding Commitments.

4. Program of Work 2009-2010.

5. Emergency Response Review Program.

—Coordination of IDR and ERR

—Draft Questionnaire New ERR Cycle

6. Policy and Other Developments in Member Countries.

—Turkey

—Poland

7. Emergency Response Exercise 4.

—Recapitulation of country responses Exercise in Capitals

—Country shares in the ICRP

—Conversion factors

—Data report (QuE)

—Design Group—Presentation of the next Disruption Simulation Exercise

—Schedule for June 2008 Activities

8. Report on Current Activities of the IAB.

9. Other Emergency Response Activities.

—Biofuels

10. Activities with International Organizations and Non-Member Countries.

—NATO

—EU

—China

—India

—Thailand

11. Other Business.

—Tentative Dates of Next SEQ Meetings

—June 23-25, 2008

12. Documents for Information.

—Emergency Reserve Situation of IEA Member Countries on October 1, 2007

—Base Period Final Consumption: 4Q 2006-3Q 2007

—Monthly Oil Statistics: December 2007

—Update of Emergency Contacts List

—Emergency Reserve Situation of IEA Member Countries on January 1, 2008

—Emergency Reserve Situation of IEA Candidate Countries on January 1, 2008

—Base Period Final Consumption: 1Q 2007-4Q 2007

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, March 5, 2008.
Diana D. Clark,
Assistant General Counsel for International and National Security Programs.

[FR Doc. E8-4831 Filed 3-10-08; 8:45 am]

BILLING CODE 6450-01-P